ENVIRONMENTAL PROTECTION AGENCY

[FRL-7054-8]

Gulf of Mexico Program Management Committee Meeting

AGENCY: Environmental Protection Agency ( EPA).

ACTION: Notice of meeting.

SUMMARY: Under the Federal Advisory Act, Public Law 92463, EPA gives notice of a Meeting of the Gulf of Mexico Program (GMP) Management Committee.

DATES: The meeting will be held on Wednesday, October 17, 2001, from 1 p.m. to 5:45 p.m. and on Thursday, October 18, 2001, from 8 a.m. to 12:30 p.m.

ADDRESSES: The meetings will be held at the Embassy Suites Hotel, 315 Julia Street, New Orleans, LA, (504-525-1993).

FOR FURTHER INFORMATION CONTACT: Gloria D. Car, Designated Federal Officer, Gulf of Mexico Program Office, Building 1103, Room 202, Stennis Space Center, MS 39529-6000 at (228) 688-2421.

SUPPLEMENTARY INFORMATION: Proposed agenda is attached.

The meeting is open to the public.

Dated: August 30, 2001.
Gloria D. Car,
Designated Federal Officer.

Gulf of Mexico Program Management Committee Meeting, Embassy Suites Hotel, New Orleans, Louisiana

October 17-18, 2001.

Wednesday, October 17

1:00 Welcome and Introductions (Bruce Moulton)

1:10 Progress Report—Implementation of the GMP FY2001 Workplan (Bryon Griffith)

Purpose: Review GMP annual performance goals for 2001 and accomplishments.

Decision: Informational.

1:45 GMP FY2002/2003 Objectives and FY2002 Workplan (Jim Giattina)

Purpose: Review revised objectives and FY2002 Workplan.

Decision: Management Committee endorsement of revised objectives and workplan.

2:15 Presentation of Gulf of Mexico Research Needs/Strategy (Ray Wilhour)

Purpose: To review findings, proposed strategy, and recommendations developed by Expert Panels under the Monitoring, Modeling, and Research Committee.

Decision: Endorsement of the strategy and recommendations, and endorsement to forward these to the Policy Review Board for their consideration in developing the 2002 recommendations to the Administrator as the Federal Advisory Committee.

3:00 Break

3:15 Mercury Contamination in Gulf Seafood (Fred Kopfler)

Purpose: Review recent press coverage of mercury issues in the Gulf and discuss appropriate actions for the GMP to take as a follow-up to our Mercury Report.

Decision: Agreement on next steps for the GMP.

4:00 Gulf of Mexico—Aquatic Nuisance Species Regional Panel (Herb Kumpf)

Purpose: Review FY2001 annual report outline and suggested recommendations to the National ANS Task Force.

Decision: Endorsement or revision of report outline and recommendations.

4:30 Coastal America—Regional Implementation Team (Bob Bosenberg and Bryon Griffith)

Purpose: Review status of key projects and activities undertaken by the GMP in support of Coastal America.

Decision: Informational.

5:00 ISSC Vibrio vulnificus Management Plan Requirements (Tom Herrington)

Purpose: Review recent decisions reached by the ISSC regarding disease reduction targets and post-harvest treatment.

Decision: Discuss role of GMP in assisting ISSC and Gulf States in developing and implementing Management Plan.

5:45 Adjourn for Social in Atrium Lounge at the Embassy Suites, Dinner on your own

Thursday, October 18

8:00 Citizens Advisory Committee Report (Casi Callaway and Robert Crowe)

Purpose: Provide update on CAC activities.

Decision: Informational.

8:15 Harmful Algal Bloom Observing System Pilot Project (Jim Giattina)

Purpose: Review work underway to develop an early warning system for HABs to support Gulf State management responses and future plans.

Decision: Informational.

9:00 GEMS—New Directions and Support Opportunities (Quenton Dokken)

Purpose: Report on partnership formed with NOAA's Community-Based Habitat Restoration Program.

Decision: Informational.

9:30 The Nature Conservancy—Development of a Gulf Ecoregion Conservation Plan (Bob Bendick)

Purpose: Report on TNC efforts to link land-based ecoregion plans with Northern Gulf Ecoregion Plan to protect critical habitats for biodiversity and to discuss strategic linkages with GEMS/NOAA partnership to aid in implementation.

Decision: Informational.

10:00 Gulf Hypoxia Action Plan Implementation (Mary Beth Van Pelt)

Purpose: Review status of national efforts.

Decision: Agreement on next steps the GMP should take to support national efforts.

10:30 Break

10:45 GMP Recommendations for the Administrator of EPA. (Jim Giattina)

Purpose: Review proposed issues and recommendations for the Policy Review Board.

Decision: Agree on topics to be covered and schedule for completing final recommendations for 2002.

11:45 Ocean Act of 2000 (Gloria Car)

Purpose: Provide an overview of the Ocean Act requirements and schedule.

Decision: Discuss opportunities for GMP to interact with Ocean Council.

12:00 Review Action Items

12:30 Adjourn

[FR Doc. 01-23221 Filed 9-17-01; 8:45 am]

BILLING CODE 6560-50-P